DEPARTMENT OF JUSTICE

Notice of Lodging of Proposed Consent Decree Under the Comprehensive Environmental Response, Compensation, and Liability Act (“CERCLA”)

AGENCY: Department of Justice.

ACTION: Notice.

SUMMARY: On December 29, 2015, the Department of Justice lodged a proposed Consent Decree with the United States District Court for the Central District of California, Western Division, in the lawsuit entitled United States and State of California Department of Toxic Substances Control v. AC Products, Inc., et al. Civil Action No. 2:15-cv-09931.

The United States and the State of California filed this lawsuit under the Comprehensive Environmental Response, Compensation, and Liability Act (“CERCLA”) against the following Defendants for recovery of response costs which each incurred to address environmental contamination at the Cooper Drum Company Superfund Site located in Los Angeles County, California (“the Site”): AC Products, Inc.; A. G. Layne, Inc.; Alpha Corporation of Tennessee Inc.; Ashland Inc.; Atlantic Richfield Company; Baker Petrolite LLC; Cargill, Incorporated; Castrol Industrial North America Inc.; Chemcentral Corp.; Chemical Waste Management, Inc.; Chevron U.S.A. Inc.; Coral Chemical Company; D.A. Stuart Company; Dunn-Edwards Corporation; Engineered Polymer Solutions, Inc.; ExxonMobil Oil Corporation; Gallade Chemical, Inc.; Hasco Oil Company, Inc.; Houghton International, Inc.; J.H. Mitchell & Sons Distributors, Inc.; Lockheed-Martin Corporation; Lonza Inc.; Lubricating Specialties Company; Mathisen Oil Co., Inc.; Pennzoil-Quaker State Company; Penreco; PolyOne Corporation; PPG Industries, Inc.; PTM&W Industries Inc.; Quaker Chemical Corporation; Rathon Corp.; Shell Chemical LP; Shell Oil Company; SOCO West, Inc.; Southern California Edison; Southern Counties Oil Co.; Sta-Lube LLC f/k/a Sta-Lube, Inc.; Stuarts' Petroleum; Texaco Downstream Properties Inc.; The Boeing Company; The Valspar Corporation; Union Oil Company of California; and Univar USA Inc.

The complaint names the above-listed companies as Defendants based on their business relationship with the Cooper Drum Company which operated a drum reconditioning business at the Site and which accepted drums from each Defendant that contained residues of hazardous substances. The Complaint also seeks declaratory relief for all future costs to be incurred. The Consent Decree resolves these claims through the payment of $5,539,266 to the United States and $53,599 to the State of California in partial recovery of response costs. In addition, the Defendants are obligated under the Consent Decree to reimburse the United States and the State of California for all future response costs and to perform the remedial action that EPA selected for the Site. In return, the United States and the State of California agree not to sue the Defendants under sections 106 and 107 of CERCLA.

The publication of this notice opens a period for public comment on the Consent Decree. Comments should be addressed to the Assistant Attorney General, Environment and Natural Resources Division, and should refer to United States and State of California Department of Toxic Substances Control v. AC Products, Inc., et al. D.J. Ref. No. 90-11-2-09084. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the Consent Decree may be examined and downloaded at this Justice Department Web site: http://www.justice.gov/enrd/consent-decrees. We will provide a paper copy of the Consent Decree upon written request and payment of reproduction costs. Please mail your request and payment to: Consent Decree Library, U.S. DOJ—ENRD, P.O. Box 7611, Washington, DC 20044-7611.

Please enclose a check or money order for $145.50 (25 cents per page reproduction cost × 582 pages) payable to the United States Treasury. For a paper copy without the exhibits and signature pages, the cost is $24.00 (25 cents per page reproduction cost × 96 pages)

Maureen Katz,
Assistant Section Chief, Environmental Enforcement Section, Environment and Natural Resources Division.

[FR Doc. 2015-33194 Filed 1-5-16; 8:45 am]

BILLING CODE 4410-15-P